DEPARTMENT OF HEALTH AND HUMAN SERVICES

Administration for Children and Families

Proposed Information Collection Activity; Comment Request

Proposed Projects

Title: Multistate Financial Institution Data Match with Federally Assisted State Transmitted Levy (FIDM/FAST-Levy).

OMB No.: 0970-0196.

Description: To satisfy any current support obligation and arrearage of an obligor who owes past-due support, state child support enforcement agencies are required to attach and seize assets of the obligor held in financial institutions. To locate an obligor's account, state child support enforcement agencies are required to enter into data matching agreements with financial institutions doing business in their state. The results of the data matches are used to secure information leading to the enforcement of the support obligation. The federal Office of Child Support Enforcement (OCSE) assists states fulfilling the data matching requirements with multistate financial institutions by facilitating matching through the centralized Federal Parent Locator Service.

To further assist states in meeting this statutory obligation, the OCSE developed the Federally Assisted State Transmitted (FAST) Levy application, an application within the Federal Parent Locator Service, providing a secure and automated method of collecting and disseminating electronic levy notices between state child support enforcement agencies and multistate financial institutions to help the child support agencies more efficiently secure financial assets.

The FIDM/FAST-Levy information collection activities are authorized by: 42 U.S.C. 652(l) which authorizes OCSE, through the Federal Parent Locator Service, to aid state child support agencies and financial institutions doing business in two or more States in reaching agreements regarding the receipt from financial institutions, and the transfer to the state child support agencies, of information pertaining to the location of accounts held by obligors who owe past-due support; 42 U.S.C. 666 (a)(2) and (c)(1)(G)(ii) which require state child support agencies in cases in which there is an arrearage to establish procedures to secure assets to satisfy any current support obligation and the arrearage by attaching and seizing assets of the obligor held in financial institutions; (2) 42 U.S.C. 666(a)(17), which requires state child support agencies to establish procedures under which the state child support agencies shall enter into agreements with financial institutions doing business in the State to develop and operate, in coordination with financial institutions, and the Federal Parent Locator Service (in the case of financial institutions doing business in two or more States), a data match system, using automated data exchanges to the maximum extent feasible, in which a financial institution is required to quarterly provide information pertaining to a noncustodial parent owing past-due support who maintains an account at the institution; and (ii) in response to a notice of lien or levy, encumber or surrender, assets held; (3) 42 U.S.C. 652(a)(7), which requires OCSE to provide technical assistance to state child support enforcement agencies to help them establish effective systems for collecting child and spousal support; and (4) 45 CFR 303.7(a)(5), which requires state child support agencies to transmit requests for information and provide requested information electronically to the greatest extent possible.

Respondents: Multistate Financial Institutions and State Child Support Agencies

Annual Burden Estimates
Instrument | Number of respondents | Number of responses per respondent | Average burden hours per response | Total burden hours
Financial Data Match Result File | 259 | 4 | .33 | 341.88
Election Form | 122 | 1 | 0.5 | 61
FAST-Levy Response Withhold Record Specifications: Multistate Financial Institutions | 5 | 1 | 317.5 | 1,587.5
FAST-Levy Request Withhold Record Specifications: State Child Support Enforcement Agencies | 7 | 1 | 317.5 | 2,222.5

Estimated Total Annual Burden Hours: 4,212.88.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-02402 Filed 2-4-14; 8:45 am]

BILLING CODE 4184-01-P